COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add a product and services to the Procurement List that will be furnished by nonprofit agencies employing persons who are blind or have other severe disabilities, and deletes products and a service previously furnished by such agencies.

Comments Must Be Received On Or Before: June 26, 2016.

ADDRESSES: Committee for Purchase From People Who Are Blind or Severely Disabled, 1401 S. Clark Street, Suite 715, Arlington, Virginia 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION:

This notice is published pursuant to 41 U.S.C. 8503(a)(2) and 41 CFR 51-2.3. Its purpose is to provide interested persons an opportunity to submit comments on the proposed actions.

Additions

If the Committee approves the proposed additions, the entities of the Federal Government identified in this notice will be required to procure the product and services listed below from nonprofit agencies employing persons who are blind or have other severe disabilities.

The following product and services are proposed for addition to the Procurement List for production by the nonprofit agencies listed:

Product

NSN(s)—Product Name(s): MR 10738—Holder, Pot Lid and Utensil, Includes Shipper 20738

Mandatory for: The requirements of military commissaries and exchanges in accordance with the Code of Federal Regulations, Chapter 51, 51-6.4.

Mandatory Source(s) of Supply: Winston-Salem Industries for the Blind, Inc., Winston-Salem, NC

Contracting Activity: Defense Commissary Agency

Distribution: C-List

Services

Service Type: Custodial Service

Mandatory for: Department of Homeland Securit, Federal Law Enforcement Training Center, 1131 Chapel Crossing Road, Glynco, GA

Mandatory Source(s) of Supply: Goodwill Industries of the Coastal Empire, Inc., Savannah, GA

Contracting Activity: Department of Homeland Security, Federal Law Enforcement Training Center, Glynco, GA

Service Type: Mailroom and Courier Service

Mandatory for: Office of Personnel Management, Federal Investigative Service, Boyers, PA

Mandatory Source(s) of Supply: Keystone Vocational Services, Inc., Hermitage, PA

Contracting Activity: Office of Personnel Management, Boyers, PA

Service Type: Contractor Operated Parts Store (COPARS)

Mandatory for: U.S. Marine Corps, Motor Transport Department, Contractor Operated Parts Store (COPARS), Marine Corps Air Station, Building 160, Cherry Point, NC

Mandatory Source(s) of Supply: Eastern Carolina Vocational Center, Inc., Greenville, NC

Contracting Activity: Dept. of the Navy, Commanding General, Camp Lejeune, NC

Service Type: Base Supply Center

Mandatory for: Defense Health Agency, Defense Health Headquarters, 7700 Arlington Boulevard, Falls Church, VA

Mandatory Source(s) of Supply: Virginia Industries for the Blind, Charlottesville, VA

Contracting Activity: Dept. of Defense, Defense Health Agency (DHA), Falls Church, VA

Deletions

The following products and service are proposed for deletion from the Procurement List:

Products

NSN(s)—Product Name(s):

6515-00-NSH-0004—Applicator, Disposable,

6515-00-NSH-0005—Applicator, Disposable

Mandatory Source(s) of Supply: Suburban Adult Services, Inc., Elma, NY

Contracting Activities: Department of Veterans Affairs, NAC, Hines, IL, Defense Logistics Agency Troop Support

Service

Service Type: Janitorial/Custodial Service

Mandatory for: U.S. Army Reserve, Chapman USARC, 2408 East Main Street, Danville, IL

Mandatory Source(s) of Supply: Child-Adult Resource Services, Inc., Rockville, IN

Contracting Activity: Dept. of the Army, W6QM MICC Ft. McCoy (RC), Ft. McCoy, WI

Barry S. Lineback,
Director, Business Operations.

[FR Doc. 2016-12587 Filed 5-26-16; 8:45 am]

BILLING CODE 6353-01-P